DEPARTMENT OF THE INTERIOR

Bureau of Land Management

[F-14875-A, F-14875-A2; 19X.LLAK944000.L14100000.HY0000.P]

Alaska Native Claims Selection

AGENCY: Bureau of Land Management, Interior.

ACTION: Notice of decision approving lands for conveyance.

SUMMARY: The Bureau of Land Management (BLM) hereby provides constructive notice that it will issue an appealable decision approving conveyance of the surface estate in certain lands to Kugkaktlik Limited, for the Native village of Kipnuk, pursuant to the Alaska Native Claims Settlement Act of 1971, as amended (ANCSA). The lands approved for conveyance lie partially within the former Clarence Rhode National Wildlife Range, now known as the Yukon Delta National Wildlife Refuge. The subsurface estate in the lands lying outside the former Clarence Rhode National Wildlife Range will be conveyed to Calista Corporation when the surface estate is conveyed to Kugkaktlik Limited.

DATES: Any party claiming a property interest in the lands affected by the decision may appeal the decision in accordance with the requirements of 43 CFR part 4 within the time limits set out in the SUPPLEMENTARY INFORMATION section.

ADDRESSES: You may obtain a copy of the decision from the Bureau of Land Management, Alaska State Office, 222 West Seventh Avenue, #13, Anchorage, AK 99513-7504.

FOR FURTHER INFORMATION CONTACT: Judy A. Kelley, BLM Alaska State Office, 907-271-3786, or j1kelley@blm.gov. The BLM Alaska State Office may also be contacted via Telecommunications Device for the Deaf (TDD) through the Federal Relay Service at 1-800-877-8339. The relay service is available 24 hours a day, 7 days a week, to leave a message or question with the BLM. The BLM will reply during normal business hours.

SUPPLEMENTARY INFORMATION: As required by 43 CFR 2650.7(d), notice is hereby given that the BLM will issue an appealable decision to Kugkaktlik Limited for the Native village of Kipnuk. The decision approves conveyance of the surface estate in certain lands pursuant to ANCSA (43 U.S.C. 1601, et seq.). The lands approved for conveyance lie partially within the former Clarence Rhode National Wildlife Range, established December 8, 1960, now known as the Yukon Delta National Wildlife Refuge. As provided by ANCSA, the subsurface estate in lands lying within a national wildlife refuge in existence on December 18, 1971, is not available for conveyance to the regional corporation, Calista Corporation, and will be reserved to the United States in the conveyance document transferring the surface estate. The subsurface estate in the lands lying outside the former Clarence Rhode National Wildlife Range will be conveyed to Calista Corporation when the surface estate is conveyed to Kugkaktlik Limited. The lands are located in the vicinity of Kipnuk, and are described as:

Lands Within the Former Clarence Rhode National Wildlife Range (Public Land Order No. 2213), Now Known as the Yukon Delta National Wildlife Refuge

Surface estate to be conveyed to Kugkaktlik Limited;

Subsurface estate to be reserved to the United States.

Seward Meridian, Alaska

T. 1 S, R. 85 W,

Secs. 31, 32, and 33.

Containing 690 acres.

T. 2 S, R. 85 W,

Sec. 6.

Containing 191 acres.

Aggregating 881 acres.

Lands Outside the Former Clarence Rhode National Wildlife Range (Public Land Order No. 2213), Now Known as the Yukon Delta National Wildlife Refuge

Surface estate to be conveyed to Kugkaktlik Limited;

Subsurface estate to be conveyed to Calista Corporation.

Seward Meridian, Alaska

T. 1 S, R. 84 W,

Sec. 22.

Containing 0.94 acres.

T. 1 S, R. 85 W,

Secs. 31, 32, and 33.

Containing 1,083 acres.

T. 2 S, R. 85 W,

Secs. 5 and 6.

Containing 916 acres.

Aggregating 2,000 acres.

Aggregating a total of 2,881 acres.

The BLM will publish notice of the decision once a week for four consecutive weeks in The Delta Discovery newspaper.

Any party claiming a property interest in the lands affected by the decision may appeal the decision in accordance with the requirements of 43 CFR part 4 within the following time limits:

1. Unknown parties, parties unable to be located after reasonable efforts have been expended to locate, parties who fail or refuse to sign their return receipt, and parties who receive a copy of the decision by regular mail which is not certified, return receipt requested, shall have until January 25, 2019 to file an appeal.

2. Parties receiving service of the decision by certified mail shall have 30 days from the date of receipt to file an appeal.

Parties who do not file an appeal in accordance with the requirements of 43 CFR part 4 shall be deemed to have waived their rights. Notices of appeal transmitted by facsimile will not be accepted as timely filed.

Judy A. Kelley,
Land Law Examiner, Adjudication Section.

[FR Doc. 2018-27880 Filed 12-21-18; 8:45 am]

BILLING CODE 4310-JA-P